Proclamation 10643 of September 29, 2023

Death of Dianne Feinstein

By the President of the United States of America

A Proclamation

Senator Dianne Feinstein was a pioneering American and a true trailblazer. In San Francisco, she showed enormous poise and courage in the wake of tragedy, and became a powerful voice for American values. In the United States Senate, she turned passion into purpose, and led the fight to ban assault weapons, also making her mark on everything from national security to the environment to protecting civil liberties. Senator Feinstein was a role model for so many Americans and she had an immense impact on younger female leaders for whom she generously opened doors. She was a historic figure, and our country will benefit from her legacy for generations.

As a mark of respect for the memory of Senator Dianne Feinstein, by the authority vested in me as President of the United States by the Constitution and the laws of the United States of America, I hereby order that the flag of the United States shall be flown at half-staff at the White House and upon all public buildings and grounds, at all military posts and naval stations, and on all naval vessels of the Federal Government in the District of Columbia and throughout the United States and its Territories and possessions until sunset, on the day of interment. I also direct that the flag shall be flown at half-staff for the same length of time at all United States embassies, legations, consular offices, and other facilities abroad, including all military facilities and naval vessels and stations.

IN WITNESS WHEREOF, I have hereunto set my hand this twenty-ninth day of September, in the year of our Lord two thousand twenty-three, and of the Independence of the United States of America the two hundred and forty-eighth.

[FR Doc. 2023-22244

Filed 10-3-23; 8:45 am]

Billing code 3395-F4-P